DEPARTMENT OF THE TREASURY

Internal Revenue Service

26 CFR Part 1

[REG-156779-06]

RIN 1545-BG27

Determining the Amount of Taxes Paid for Purposes of Section 901; Correction

AGENCY: Internal Revenue Service (IRS), Treasury.

ACTION: Correction to notice of proposed rulemaking.

SUMMARY: This document contains a correction to notice of proposed rulemaking that was published in the Federal Register on Friday, March 30, 2007 (71 FR 15081) providing guidance relating to the determination of the amount of taxes paid for purposes of section 901.

FOR FURTHER INFORMATION CONTACT: Bethany A. Ingwalson, (202) 622-3850 (not a toll-free number).

SUPPLEMENTARY INFORMATION:

Background

The notice of proposed rulemaking (REG-156779-06) that is the subject of this correction is under section 901 of the Internal Revenue Code.

Need for Correction

As published, this notice of proposed rulemaking (REG-156779-06) contains an error that may prove to be misleading and is in need of clarification.

Correction of Publication

Accordingly, the notice of proposed rulemaking (REG-156779-06), that was the subject of FR Doc. E7-5862, is corrected as follows:

On page 15085, column 3, in the preamble, first full paragraph of the column, under the paragraph heading “3. Comments and Proposed Regulations”, lines 1 and 2, the language “The fifth condition is that the counterparty is a person (other than the” is corrected to read “The fifth condition is that the arrangement involves a counterparty. A counterparty is a person (other than the”.

LaNita Van Dyke,
Branch Chief, Publications and Regulations Branch, Legal Processing Division, Office of Associate Chief Counsel (Procedure and Administration).

[FR Doc. E7-8942 Filed 5-9-07; 8:45 am]

BILLING CODE 4830-01-P